DEPARTMENT OF AGRICULTURE

Animal and Plant Health Inspection Service

[Docket No. APHIS-2012-0092]

Notice of Request for Extension of Approval of an Information Collection; National Management Information System

AGENCY: Animal and Plant Health Inspection Service, USDA.

ACTION: Extension of approval of an information collection; comment request.

SUMMARY: In accordance with the Paperwork Reduction Act of 1995, this notice announces the Animal and Plant Health Inspection Service's intention to request an extension of approval of an information collection associated with cooperative wildlife damage management programs.

DATES: We will consider all comments that we receive on or before February 4, 2013.

ADDRESSES: You may submit comments by either of the following methods:

• Federal eRulemaking Portal: Go to http://www.regulations.gov/#!documentDetail;D=APHIS-2012-0092-0001.

• Postal Mail/Commercial Delivery: Send your comment to Docket No. APHIS-2012-0092, Regulatory Analysis and Development, PPD, APHIS, Station 3A-03.8, 4700 River Road, Unit 118, Riverdale, MD 20737-1238.

Supporting documents and any comments we receive on this docket may be viewed at http://www.regulations.gov/#!docketDetail;D=APHIS-2012-0092 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the national management information system for cooperative wildlife damage management programs, contact Mr. Robert Myers, Wildlife Biologist, Wildlife Services, APHIS, 4700 River Road Unit 87, Riverdale, MD 20737; (301) 651-8845. For copies of more detailed information on the information collection, contact Mrs. Celeste Sickles, APHIS' Information Collection Coordinator, at (301) 851-2908.

SUPPLEMENTARY INFORMATION: Title: National Management Information System.

OMB Number: 0579-0335.

Type of Request: Extension of approval of an information collection.

Abstract: As authorized by the Animal Damage Control Act of 1931 (7 U.S.C. 426-426c; 46 Stat. 1468), as amended, the Secretary of Agriculture may conduct activities and enter into agreements with States, local jurisdictions, individuals, public and private agencies, organizations, and institutions in the control of nuisance mammals and birds and those mammal and bird species that are reservoirs for zoonotic diseases.

Wildlife Services (WS) of the Animal and Plant Health Inspection Service (APHIS), U.S. Department of Agriculture, cooperates with Federal agencies, State and local governments, and private individuals to research and implement the best methods of managing conflicts between wildlife and human health and safety, agriculture, property, and natural resources.

Program activities usually consist of either cooperative direct control or technical assistance programs. As part of its program, WS enters into agreements to document the terms and conditions for cooperating with parties outside of APHIS (those parties are referred to as “cooperators”). In response to requests for assistance in managing wildlife damage, WS collects information about organizations, industry, Federal and non-Federal entities, and members of public as part of its program. Information is collected through the use of work initiation documents, cooperative agreement forms, supply order forms and sales records, project reports, and a resource values survey. The information collected through these forms is used by the Agency to:

• Identify cooperators appropriately.

• Identify lands on which WS personnel will work.

• Differentiate between cooperators (i.e., property owners, land managers, or resource owners) who request assistance in managing damage caused by wildlife.

• Identify the land areas on which wildlife damage management activities would be conducted.

• Identify the relationship between resources or property, WS' protection of such resources or property, and the damage caused by wildlife.

• Determine the methods or damage management activities to deal with the damage.

• Establish a record that a cooperative agreement has been entered into with a cooperator.

• Document that permission has been obtained from landowners to go on the cooperator's property.

• Record wildlife damage occurrences on cooperator's property and steps to address them.

• Record occurrences that may have affected non-target species or humans during, or related to, WS project actions.

• Determine satisfaction with service to help WS evaluate, modify, and improve its program.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.04623497 hours per response.

Respondents: Federal, State, and local agencies, and the public who request services from WS or engage in wildlife damage management projects with WS.

Estimated annual number of respondents: 117,768.

Estimated annual number of responses per respondent: 1.

Estimated annual number of responses: 117,768.

Estimated total annual burden on respondents: 5,445 hours. (Due to averaging, the total annual burden hours may not equal the product of the annual number of responses multiplied by the reporting burden per response.)

All responses to this notice will be summarized and included in the request for OMB approval. All comments will also become a matter of public record.

Done in Washington, DC, this 28th day of November, 2012.
Kevin Shea,
Acting Administrator, Animal and Plant Health Inspection Service.

[FR Doc. 2012-29225 Filed 12-3-12; 8:45 am]

BILLING CODE 3410-34-P